DEPARTMENT OF THE INTERIOR

National Park Service

Chesapeake and Ohio Canal National Historical Park Advisory Commission; Notice of Public Meeting

AGENCY: Department of the Interior, National Park Service, Chesapeake and Ohio Canal National Historical Park Advisory Commission.

ACTION: Notice of meeting.

SUMMARY: Notice is hereby given that a meeting of the Chesapeake and Ohio Canal National Historical Park Advisory Commission (the Commission) will be held on Tuesday, September 14, 2004, at 10 a.m. at the Glen Echo Town Hall, 6106 Harvard Avenue, Glen Echo, MD.

The purpose of the meeting will be to review and discuss recently provided information from Georgetown University on their proposed boathouse.

The meeting will be open to the public. Any person may file with the Commission a written statement concerning the matters to be discussed. Persons who wish to file a written statement or testify at the meeting or who want further information concerning the meeting may contact Superintendent Kevin Brandt at (301) 714-2201.

DATES: September 14, 2004, at 10 a.m.

ADDRESSES: Glen Echo Town Hall, 6106 Harvard Avenue, Glen Echo, Maryland 20812.

FOR FURTHER INFORMATION CONTACT: Superintendent Keven Brandt, (301) 714-2201.

SUPPLEMENTARY INFORMATION: The Commission was established by Public Law 91-664 to meet and consult with the Secretary of the Interior on general policies and specific matters related to the administration and development of the Chesapeake and Ohio Canal National Historic Park.

Normally, notice of advisory committee meetings are published at least 15 calendars prior to the meeting date. However, due to: (1) The compelling need for the Commission to discuss new information concerning Georgetown University's proposal for a boathouse on the Potomac River; (2) the difficulty of finding a date suitable to all Commission members; and (3) the difficulty of finding a suitable meeting location, it was not possible to give 15 calendar days advance notice.

Members of the Commission are:

Mrs. Sheila Rabb Weidenfield, Chairman

Mr. Charles J. Weir

Mr. Barry A. Passett

Mr. Terry W. Hepburn

Ms. Elise B. Heinz

Ms. JoAnn M. Spevacek

Mrs. Mary E. Woodward

Mrs. Donna Printz

Mrs. Ferial S. Bishop

Ms. Nancy C. Long

Mrs. Jo Reynolds

Dr. James H. Gilford

Brother James Kirkpatrick

Dated: September 3, 2004.
Bernard C. Fagan,
Deputy Chief, National Park Service Office of Policy.

[FR Doc. 04-20639 Filed 9-13-04; 8:45 am]

BILLING CODE 4312-52-M